Title 3—

The President

Presidential Determination No. 2022-21 of August 25, 2022

Presidential Determination on the Proposed Agreement To Extend the Agreement for Cooperation Between the United States of America and the Republic of South Africa Concerning Peaceful Uses of Nuclear Energy

Memorandum for the Secretary of State [and] the Secretary of Energy

I have considered the proposed Agreement to Extend the Agreement for Cooperation between the United States of America and the Republic of South Africa Concerning Peaceful Uses of Nuclear Energy (the “proposed Agreement”), along with the views, recommendations, and statements of the interested departments and agencies.

I have determined that the performance of the proposed Agreement will promote, and will not constitute an unreasonable risk to, the common defense and security. Pursuant to section 123 b. of the Atomic Energy Act of 1954, as amended (42 U.S.C. 2153(b)), I hereby approve the proposed Agreement and authorize the Secretary of State to arrange for its execution.

The Secretary of State is authorized and directed to publish this determination in the Federal Register.

THE WHITE HOUSE,

Washington, August 25, 2022

[FR Doc. 2022-19366

Filed 9-2-22; 11:15 am]

Billing code 4710-10-P